Title 3—

The President

Proclamation 7970 of December 22, 2005

To Take Certain Actions Under the African Growth and Opportunity Act

By the President of the United States of America

A Proclamation

1. Section 506A(a)(1) of the Trade Act of 1974 (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(b)(3)(B) of the AGOA (19 U.S.C. 3721(b)(3)(B)) provides special rules for certain apparel articles imported from “lesser developed beneficiary sub-Saharan African countries.”

4. In Proclamation 7350 of October 2, 2000, the President designated the Islamic Republic of Mauritania (Mauritania) as a beneficiary sub-Saharan African country pursuant to section 506A(a)(1) of the 1974 Act and provided that it would be considered a lesser developed beneficiary sub-Saharan African country for purposes of section 112(b)(3)(B) of the AGOA.

5. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act.

6. Pursuant to section 104 of the AGOA and section 506A(a)(1) of the 1974 Act, I have determined that the Republic of Burundi (Burundi) meets the eligibility requirements set forth or referenced therein, and I have decided to designate Burundi as an eligible sub-Saharan African country and as a beneficiary sub-Saharan African country.

7. I further determine that Burundi satisfies the criterion for treatment as a “lesser developed beneficiary sub-Saharan African country” under section 112(b)(3)(B) of the AGOA.

8. Pursuant to section 506A(a)(3) of the 1974 Act, I have determined that Mauritania is not making continual progress in meeting the requirements described in section 506A(a)(1) of the 1974 Act. Accordingly, I have decided to terminate the designation of Mauritania as a beneficiary sub-Saharan African country for purposes of section 506A of the 1974 Act, effective on January 1, 2006.

9. Section 604 of the 1974 Act (19 U.S.C. 2483), as amended, authorizes the President to embody in the Harmonized Tariff Schedule (HTS) of the United States the substance of relevant provisions of that Act, or other acts affecting import treatment, and of actions taken thereunder.

NOW, THEREFORE, I, GEORGE W. BUSH, President of the United States of America, acting under authority vested in me by the Constitution and the laws of the United States of America, including but not limited to section 104 of the AGOA and sections 506A and 604 of the 1974 Act, do proclaim that:

(1) Burundi is designated as an eligible sub-Saharan African country and as a beneficiary sub-Saharan African country.

(2) In order to reflect this designation in the HTS, general note 16(a) to the HTS is modified by inserting in alphabetical sequence in the list of beneficiary sub-Saharan African countries “Republic of Burundi.”

(3) For purposes of section 112(b)(3)(B) of the AGOA, Burundi is a lesser developed beneficiary sub-Saharan African country.

(4) The designation of Mauritania as a beneficiary sub-Saharan African country for purposes of section 506A of the 1974 Act is terminated, effective on January 1, 2006.

(5) In order to reflect in the HTS that beginning January 1, 2006, Mauritania shall no longer be designated as a beneficiary sub-Saharan African country, general note 16(a) to the HTS is modified by deleting “Islamic Republic of Mauritania” from the list of beneficiary sub-Saharan African countries. Further, U.S. note 2(d) to subchapter XIX of chapter 98 of the HTS is modified by removing “Islamic Republic of Mauritania” from the list of lesser developed beneficiary sub-Saharan African countries.

(6) The modifications to the HTS made by paragraphs 2 and 5 of this proclamation shall be effective with respect to articles entered, or withdrawn from warehouse for consumption, on or after January 1, 2006.

(7) Any provisions of previous proclamations and Executive Orders that are inconsistent with the actions taken in this proclamation are superseded to the extent of such inconsistency.

IN WITNESS WHEREOF, I have hereunto set my hand this twenty-second day of December, in the year of our Lord two thousand five, and of the Independence of the United States of America the two hundred and thirtieth.

B

[FR Doc. 05-24581

Filed 12-23-05; 9:51 am]

Billing code 3195-01-P